NATIONAL AERONAUTICS AND SPACE ADMINISTRATION

[Notice 06-025]

NASA Advisory Council; Science Committee; Science Subcommittees; Planning Conference

AGENCY: National Aeronautics and Space Administration.

ACTION: Notice of meeting.

SUMMARY: The National Aeronautics and Space Administration (NASA) announces a Planning Conference of the Science Subcommittees of the NASA Advisory Council (NAC). These Subcommittees report to the Science Committee of the NAC. The Conference will be held for the purpose of soliciting from the scientific community and other persons scientific and technical information relevant to program planning.

DATES: Wednesday, May 3, 2006, 8 a.m. to 6 p.m. and Thursday, May 4, 2006, 8 a.m. to 2:30 p.m., Eastern Daylight Time.

ADDRESSES: University of Maryland Inn and Conference Center, located at 3501 University Blvd. East, Adelphi, MD.

FOR FURTHER INFORMATION CONTACT: Ms. Lisa May, Science Mission Directorate, NASA Headquarters, Washington, DC 20546, (202) 358-2411 or lisa.may@nasa.gov.

SUPPLEMENTARY INFORMATION: The Planning Conference will feature plenary session information briefings by NASA officials on science program status and plans and the NASA FY 2007 budget proposal. The plenary session will subsequently breakout into meetings of the Astrophysics Subcommittee, Earth Science Subcommittee, Heliophysics Subcommittee, and Planetary Sciences Subcommittee. The breakout sessions will focus on: (1) Research and Analysis plans and program mix options, and (2) science community involvement in preparing the NASA Science Plan.

The meeting will be open to the public up to the seating capacity of the rooms. Thirty minutes will be set aside for verbal comment by members of the general public, not to exceed three minutes per speaker, at 8 a.m. on May 4, 2006. Those wishing to speak must sign up at the meeting registration desk by 6 p.m. on May 3, 2006. Members of the public are also welcome to file a written statement at the time of the meeting. Verbal presentations and written comments should be confined to the subject of priorities and program mix in NASA's space and earth science programs. Findings and recommendations developed by the Subcommittees during the Conference will be submitted to the Science Committee of the NAC.

It is imperative that the meeting be held on these dates to accommodate the scheduling priorities of the key participants. Attendees will be requested to sign a visitor's register.

Dated: April 6, 2006.
P. Diane Rausch,
Advisory Committee Management Officer, National Aeronautics and Space Administration.

[FR Doc. E6-5420 Filed 4-11-06; 8:45 am]

BILLING CODE 7510-13-P